DEPARTMENT OF HOUSING AND URBAN DEVELOPMENT

[Docket No. FR-6168-N-01]

Housing Trust Fund Federal Register Allocation Notice

AGENCY: Office of the Assistant Secretary for Community Planning and Development, HUD.

ACTION: Notice of fiscal year 2019 funding awards.

SUMMARY: The Housing and Economic Recovery Act of 2008 (HERA) established the Housing Trust Fund (HTF) to be administered by HUD. Pursuant to the Federal Housing Enterprises Financial Security and Soundness Act of 1992 (the Act), as amended by HERA, Division A, eligible HTF grantees are the 50 states, the District of Columbia, the Commonwealth of Puerto Rico, American Samoa, Guam, the Commonwealth of Northern Mariana Islands, and the United States Virgin Islands. In accordance with Section 1338 (c)(4)(A) of the Act, this notice announces the formula allocation amount for each eligible HTF grantee.

FOR FURTHER INFORMATION CONTACT: Virginia Sardone, Director, Office of Affordable Housing Programs, Room 7164, Department of Housing and Urban Development, 451 Seventh Street SW, Washington, DC 20410-7000; telephone (202) 708-268 (not a toll-free number). A telecommunications device for persons with hearing- and speech-impairments (TTY) is available by Federal Relay at (800) 877-8339 (this is a toll-free number).

SUPPLEMENTARY INFORMATION: Section 1131 of HERA Division A amended the Act to add a new section 1337 entitled “Affordable Housing Allocations” and a new section 1338 entitled “Housing Trust Fund.” HUD's implementing regulations are codified at 24 CFR part 93. Congress authorized the HTF with the stated purpose of: (1) Increasing and preserving the supply of rental housing for extremely low-income families with incomes between 0 and 30 percent of area median income and very low-income families with incomes between 30 and 50 percent of area median income, including homeless families, and (2) increasing homeownership for extremely low-income and very low-income families. Section 1337 of the Act provides for the HTF (and other programs) to be funded with an affordable housing set-aside by Fannie Mae and Freddie Mac. The total set-aside amount is equal to 4.2 basis points (.042 percent) of Fannie Mae and Freddie Mac's new mortgage purchases, a portion of which is for the HTF. Section 1338 of the Act directs HUD to establish, through regulation, the formula for distribution of amounts made available for the HTF. The statute specifies the factors to be used for the formula and priority for certain factors. The factors and methodology HUD uses to allocate HTF funds among eligible grantees are established in the HTF regulation. The funding announced for Fiscal Year 2019 through this notice is $247,666,778.80. Appendix A to this notice provides the names of the grantees and the amounts of the awards.

Dated: May 7, 2019.
David C. Woll, Jr.,
Acting Assistant Secretary for Community Planning and Development.

Appendix

A: FY 2019 Housing Trust Fund Allocation Amounts

Grantee | FY 2019 allocation
1. Alabama | $3,000,000
2. Alaska | 3,000,000
3. Arizona | 3,801,428
4. Arkansas | 3,000,000
5. California | 32,376,690.80
6. Colorado | 3,362,850
7. Connecticut | 3,045,567
8. Delaware | 3,000,000
9. District of Columbia | 3,000,000
10. Florida | 9,414,324
11. Georgia | 5,277,949
12. Hawaii | 3,000,000
13. Idaho | 3,000,000
14. Illinois | 8,575,518
15. Indiana | 3,625,159
16. Iowa | 3,000,000
17. Kansas | 3,000,000
18. Kentucky | 3,000,000
19. Louisiana | 3,000,000
20. Maine | 3,000,000
21. Maryland | 3,391,627
22. Massachusetts | 5,152,337
23. Michigan | 5,363,424
24. Minnesota | 3,228,942
25. Mississippi | 3,000,000
26. Missouri | 3,647,539
27. Montana | 3,000,000
28. Nebraska | 3,000,000
29. Nevada | 3,000,000
30. New Hampshire | 3,000,000
31. New Jersey | 6,968,067
32. New Mexico | 3,000,000
33. New York | 19,152,427
34. North Carolina | 5,259,160
35. North Dakota | 3,000,000
36. Ohio | 6,190,138
37. Oklahoma | 3,000,000
38. Oregon | 3,451,918
39. Pennsylvania | 6,879,626
40. Rhode Island | 3,000,000
41. South Carolina | 3,000,000
42. South Dakota | 3,000,000
43. Tennessee | 3,377,390
44. Texas | 10,956,435
45. Utah | 3,000,000
46. Vermont | 3,000,000
47. Virginia | 4,432,124
48. Washington | 4,740,488
49. West Virginia | 3,000,000
50. Wisconsin | 3,731,220
51. Wyoming | 3,000,000
52. American Samoa | 10,338
53. Guam | 83,620
54. Northern Mariana Islands | 46,034
55. Puerto Rico | 1,034,301
56. Virgin Islands | 90,138
Total | $247,666,778.80

[FR Doc. 2019-10337 Filed 5-16-19; 8:45 am]

BILLING CODE 4210-67-P